DEPARTMENT OF HOMELAND SECURITY

Coast Guard

33 CFR Part 117

[CGD01-05-110]

Drawbridge Operation Regulations: Connecticut River, CT

AGENCY: Coast Guard, DHS.

ACTION: Notice of temporary deviation from regulations.

SUMMARY: The Commander, First Coast Guard District, has issued a temporary deviation from the drawbridge operation regulations for the Amtrak Old Saybrook-Old Lyme Bridge (Old Saybrook-Old Lyme Bridge), mile 3.4, across the Connecticut River, Connecticut. This deviation from the regulations allows the bridge to operate on a fixed schedule for bridge openings and two three-day closures from January 3, 2006 through February 1, 2006. This deviation is necessary in order to facilitate necessary scheduled bridge maintenance.

DATES: This deviation is effective from January 3, 2006 through February 1, 2006.

FOR FURTHER INFORMATION CONTACT: Judy Leung-Yee, Project Officer, First Coast Guard District, at (212) 668-7195.

SUPPLEMENTARY INFORMATION: The Old Saybrook-Old Lyme Bridge, at mile 3.4, across the Connecticut River has a vertical clearance in the closed position of 19 feet at mean high water and 22 feet at mean low water. The existing drawbridge operating regulations are listed at 33 CFR 117.205(b).

The owner of the bridge, National Railroad Passenger Corporation (Amtrak), requested a temporary deviation from the drawbridge operating regulations to facilitate scheduled electrical and mechanical bridge repairs. In order to prosecute the above repairs the bridge must open on a fixed bridge opening schedule.

This deviation to the operating regulations allows the Old Saybrook-Old Lyme Bridge to operate from January 3, 2006 through February 1, 2006, as follows:

From Monday through Friday, the bridge shall open on signal at 8:15 a.m., 12:15 p.m., and 2:15 p.m., daily. From 4 p.m. through 8 a.m. the bridge shall open on signal after a four-hour advance notice is given by calling the number posted at the bridge.

On Saturday and Sunday, the bridge shall open on signal at 8 a.m., 10 a.m., 1 p.m., and 4 p.m., daily. From 4 p.m. through 8 a.m. the bridge shall open on signal after a four-hour advance notice is given by calling the number posted at the bridge.

The bridge shall open on signal for commercial vessels at any time after a four-hour advance notice is given by calling the number posted at the bridge.

In addition the bridge may remain closed for two three-day closures from January 20, 2006 through January 22, 2006 and from January 27, 2006 through January 29, 2006.

In accordance with 33 CFR 117.35(c), this work will be performed with all due speed in order to return the bridge to normal operation as soon as possible. This deviation from the operating regulations is authorized under 33 CFR 117.35.

Dated: December 15, 2005.
Gary Kassof,
Bridge Program Manager, First Coast Guard District.

[FR Doc. 05-24336 Filed 12-21-05; 8:45 am]

BILLING CODE 4910-15-P